DEPARTMENT OF ENERGY

Federal Energy Regulatory Commission

Combined Notice of Filings

Take notice that the Commission has received the following Natural Gas Pipeline Rate and Refund Report filings:

Filings Instituting Proceedings

Docket Numbers: RP18-477-000.

Applicants: Southern Star Central Gas Pipeline, Inc.

Description: § 4(d) Rate Filing: Fuel Filing—Eff. April 1, 2018 to be effective 4/1/2018.

Filed Date: 2/28/18.

Accession Number: 20180228-5025.

Comments Due: 5 p.m. ET 3/12/18.

Docket Numbers: RP18-478-000.

Applicants: MarkWest Pioneer, L.L.C.

Description: § 4(d) Rate Filing: Quarterly FRP Filing to be effective 4/1/2018.

Filed Date: 2/28/18.

Accession Number: 20180228-5035.

Comments Due: 5 p.m. ET 3/12/18.

Docket Numbers: RP18-479-000.

Applicants: Sabine Pipe Line LLC.

Description: § 4(d) Rate Filing: 2018 Sabine Annual Fuel and Line Loss Reimbursement Filing 2-28-18 to be effective 4/1/2018.

Filed Date: 2/28/18.

Accession Number: 20180228-5036.

Comments Due: 5 p.m. ET 3/12/18.

Docket Numbers: RP18-480-000.

Applicants: Black Hills Shoshone Pipeline, LLC.

Description: § 4(d) Rate Filing: Annual Adjustment of Lost and Unaccounted For Gas Percentage to be effective 4/1/2018.

Filed Date: 2/28/18.

Accession Number: 20180228-5038.

Comments Due: 5 p.m. ET 3/12/18.

Docket Numbers: RP18-483-000.

Applicants: El Paso Natural Gas Company, L.L.C.

Description: § 4(d) Rate Filing: Negotiated Rate Agreement Update (TGS Mar 18) to be effective 3/1/2018.

Filed Date: 2/28/18.

Accession Number: 20180228-5064.

Comments Due: 5 p.m. ET 3/12/18.

Docket Numbers: RP18-484-000.

Applicants: Iroquois Gas Transmission System, L.P.

Description: § 4(d) Rate Filing: 022818 Negotiated Rates—Mercuria Energy America, Inc. H-7540-89 to be effective 3/1/2018.

Filed Date: 2/28/18.

Accession Number: 20180228-5068.

Comments Due: 5 p.m. ET 3/12/18.

Docket Numbers: RP18-485-000.

Applicants: Colorado Interstate Gas Company, L.L.C.

Description: § 4(d) Rate Filing: Qrtly LUF and Fuel Filing to be effective 4/1/2018.

Filed Date: 2/28/18.

Accession Number: 20180228-5070.

Comments Due: 5 p.m. ET 3/12/18.

Docket Numbers: RP18-486-000.

Applicants: Gulf South Pipeline Company, LP.

Description: § 4(d) Rate Filing: Cap Rel Neg Rate Agmts (PH 41455 to BP 49051, Texla 49052, Sequent 49064) to be effective 3/1/2018.

Filed Date: 2/28/18.

Accession Number: 20180228-5082.

Comments Due: 5 p.m. ET 3/12/18.

Docket Numbers: RP18-487-000.

Applicants: Gulf South Pipeline Company, LP.

Description: § 4(d) Rate Filing: Cap Rel Neg Rate Agmts (Atlanta Gas 8438 to various eff 3-1-2018) to be effective 3/1/2018.

Filed Date: 2/28/18.

Accession Number: 20180228-5083.

Comments Due: 5 p.m. ET 3/12/18.

Docket Numbers: RP18-488-000.

Applicants: Northwest Pipeline LLC.

Description: § 4(d) Rate Filing: NWP 2018 Summer Fuel Filing to be effective 4/1/2018.

Filed Date: 2/28/18.

Accession Number: 20180228-5087.

Comments Due: 5 p.m. ET 3/12/18.

Docket Numbers: RP18-489-000.

Applicants: Northwest Pipeline LLC.

Description: § 4(d) Rate Filing: NWP 2018 South Seattle Incremental Rate Update Filing to be effective 4/1/2018.

Filed Date: 2/28/18.

Accession Number: 20180228-5088.

Comments Due: 5 p.m. ET 3/12/18.

Docket Numbers: RP18-490-000.

Applicants: ANR Pipeline Company.

Description: § 4(d) Rate Filing: Fuel Filing 2018 to be effective 4/1/2018.

Filed Date: 2/28/18.

Accession Number: 20180228-5092.

Comments Due: 5 p.m. ET 3/12/18.

Docket Numbers: RP18-491-000.

Applicants: Empire Pipeline, Inc.

Description: Compliance filing Settlement (RP16-300) Refund Report.

Filed Date: 2/28/18.

Accession Number: 20180228-5112.

Comments Due: 5 p.m. ET 3/12/18.

Docket Numbers: RP18-492-000.

Applicants: El Paso Natural Gas Company, L.L.C.

Description: § 4(d) Rate Filing: Negotiated Rate Agreement (MRC Permian) to be effective 3/1/2018.

Filed Date: 2/28/18.

Accession Number: 20180228-5113.

Comments Due: 5 p.m. ET 3/12/18.

Docket Numbers: RP18-493-000.

Applicants: Texas Gas Transmission, LLC.

Description: § 4(d) Rate Filing: Amendments to Neg Rate Agmts (Munford 20593 and Poplar Grove 20592) to be effective 3/1/2018.

Filed Date: 2/28/18.

Accession Number: 20180228-5183.

Comments Due: 5 p.m. ET 3/12/18.

Docket Numbers: RP18-494-000.

Applicants: Texas Gas Transmission, LLC.

Description: § 4(d) Rate Filing: Cap Rel Neg Rate Agmts (RE Gas 35433, 34955 to BP 36939, 36940) to be effective 3/1/2018.

Filed Date: 2/28/18.

Accession Number: 20180228-5184.

Comments Due: 5 p.m. ET 3/12/18.

Docket Numbers: RP18-495-000.

Applicants: Equitrans, L.P.

Description: § 4(d) Rate Filing: AVC Storage Loss Retainage Factor Update—2018 to be effective 4/1/2018.

Filed Date: 2/28/18.

Accession Number: 20180228-5220.

Comments Due: 5 p.m. ET 3/12/18.

Docket Numbers: RP18-496-000.

Applicants: Rockies Express Pipeline LLC.

Description: § 4(d) Rate Filing: Neg Rate 2018-02-28 ARM 949128 to be effective 3/1/2018.

Filed Date: 2/28/18.

Accession Number: 20180228-5223.

Comments Due: 5 p.m. ET 3/12/18.

Docket Numbers: RP18-497-000.

Applicants: Equitrans, L.P.

Description: § 4(d) Rate Filing: 3-1-2018 Formula-Based Negotiated Rates to be effective 3/1/2018.

Filed Date: 2/28/18.

Accession Number: 20180228-5227.

Comments Due: 5 p.m. ET 3/12/18.

Docket Numbers: RP18-498-000.

Applicants: Dominion Energy Cove Point LNG, LP.

Description: § 4(d) Rate Filing: DECP—2018 Annual EPCA to be effective 4/1/2018.

Filed Date: 2/28/18.

Accession Number: 20180228-5229.

Comments Due: 5 p.m. ET 3/12/18.

Docket Numbers: RP18-499-000.

Applicants: Dominion Energy Cove Point LNG, LP.

Description: § 4(d) Rate Filing: DECP—2018 Annual Fuel Retainage to be effective 4/1/2018.

Filed Date: 2/28/18.

Accession Number: 20180228-5233.

Comments Due: 5 p.m. ET 3/12/18.

Docket Numbers: RP18-494-001.

Applicants: Texas Gas Transmission, LLC.

Description: Tariff Amendment: Amendment to Filing in Docket No. RP18-494-000 to be effective 3/1/2018.

Filed Date: 3/1/18.

Accession Number: 20180301-5036.

Comments Due: 5 p.m. ET 3/13/18.

Docket Numbers: RP18-500-000.

Applicants: Equitrans, L.P.

Description: § 4(d) Rate Filing: Negotiated Capacity Release Agreements—3/1/2018 to be effective 3/1/2018.

Filed Date: 3/1/18.

Accession Number: 20180301-5000.

Comments Due: 5 p.m. ET 3/13/18.

Docket Numbers: RP18-501-000.

Applicants: Panhandle Eastern Pipe Line Company, LP.

Description: § 4(d) Rate Filing: Fuel Filing on 3-1-18 to be effective 4/1/2018.

Filed Date: 3/1/18.

Accession Number: 20180301-5028.

Comments Due: 5 p.m. ET 3/13/18.

Docket Numbers: RP18-502-000.

Applicants: Trunkline Gas Company, LLC.

Description: § 4(d) Rate Filing: Fuel Filing on 3-1-18 to be effective 4/1/2018.

Filed Date: 3/1/18.

Accession Number: 20180301-5029.

Comments Due: 5 p.m. ET 3/13/18.

Docket Numbers: RP18-503-000.

Applicants: Southwest Gas Storage Company.

Description: § 4(d) Rate Filing: Fuel Filing on 3-1-18 to be effective 4/1/2018.

Filed Date: 3/1/18.

Accession Number: 20180301-5030.

Comments Due: 5 p.m. ET 3/13/18.

Docket Numbers: RP18-504-000.

Applicants: Rover Pipeline LLC.

Description: § 4(d) Rate Filing: Fuel Filing on 3-1-18 to be effective 4/1/2018.

Filed Date: 3/1/18.

Accession Number: 20180301-5031.

Comments Due: 5 p.m. ET 3/13/18.

Docket Numbers: RP18-505-000.

Applicants: Florida Gas Transmission Company, LLC.

Description: § 4(d) Rate Filing: Fuel Filing on 3-1-18 to be effective 4/1/2018.

Filed Date: 3/1/18.

Accession Number: 20180301-5032.

Comments Due: 5 p.m. ET 3/13/18.

Docket Numbers: RP18-506-000.

Applicants: Viking Gas Transmission Company.

Description: § 4(d) Rate Filing: Annual LMCRA—Spring 2018 to be effective 4/1/2018.

Filed Date: 3/1/18.

Accession Number: 20180301-5033.

Comments Due: 5 p.m. ET 3/13/18.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 1, 2018.
Nathaniel J. Davis, Sr.,
Deputy Secretary.

[FR Doc. 2018-04595 Filed 3-6-18; 8:45 am]

BILLING CODE 6717-01-P